DEPARTMENT OF HEALTH AND HUMAN SERVICES

Office of the Secretary

Findings of Scientific Misconduct

AGENCY: Office of the Secretary, HHS.

ACTION: Notice.

SUMMARY: Notice is hereby given that the Office of Research Integrity (ORI) and the Assistant Secretary for Health have taken final action in the following case:

David A. Padgett, Ph.D., The Ohio State University: Based on the report of an investigation conducted by The Ohio State University (OSU), the Respondent's admissions, and additional analysis conducted by ORI in its oversight review, the U.S. Public Health Service (PHS) found that Dr. Padgett, an Assistant Professor at the OSU College of Dentistry engaged in scientific misconduct in grant application 1 R01 AG20102-01 submitted to the National Institute of Aging, National Institutes of Health (NIH).

Specifically, PHS finds that Dr. Padgett plagiarized and misrepresented as his own research data for Figures 1 and 2 of this NIH grant application, data which represented unpublished experiments originally conducted by a researcher at another institution for a private company. The plagiarism was a significant misrepresentation because the data appeared in the preliminary results section of the NIH grant application. The respondent used these experiments, which were relevant to the proposed research, to support the request for funding.

Dr. Padgett has entered into a Voluntary Exclusion Agreement (Agreement) in which he has voluntarily agreed for a period of three (3) years, beginning on October 4, 2001:

(1) To exclude himself from serving in any advisory capacity to PHS, including but not limited to service on any PHS advisory committee, board, and/or peer review committee, or as a consultant; and

(2) That Dr. Padgett and any institution employing him are required to certify, in every PHS application or report in which he is involved, that all persons who contribute original sources of ideas, data, or research results to the applications or reports are properly cited or otherwise acknowledged. This requires Dr. Padgett and the institution, with respect to Dr. Padgett's contributions to the application or report, to certify that all individuals (both within and outside the institution) who contributed to the application or report are acknowledged. The institution must also send a copy of the certification to ORI.

FOR FURTHER INFORMATION CONTACT: Director, Division of Investigative Oversight, Office of Research Integrity 5515 Security Lane, Suite 700, Rockville, MD 20852, (301) 443-5330.

Chris B. Pascal,
Director, Office of Research Integrity.

[FR Doc. 01-26886 Filed 10-24-01; 8:45 am]

BILLING CODE 4150-31-P